OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Senior Executive Resource Services, Executive Resources and Employee Development, Employee Services, 202-606-2246.

SUPPLEMENTARY INFORMATION: Appearing in the April 1, 2011, and April 31, 2011. These notices are published monthly in the Federal Register at http://www.federalregister.gov/. A consolidated listing of all authorities as of June 30 is also published each year. The following Schedules are not codified in the Code of Federal Regulations. These are agency-specific exceptions.

Schedule A

No Schedule A authorities to report during April 2011.

Schedule B

No Schedule B authorities to report during April 2011.

Schedule C

The following Schedule C appointments were approved during April 2011.

Agency name | Organization name | Position title | Authorization number | Effective date
Department of Agriculture | Office of the Under Secretary Farm and Foreign Agricultural Service | Chief of Staff | DA110040 | 4/4/2011
| Rural Utilities Service | Senior Advisor | DA110047 | 4/4/2011
| Office of the Assistant Secretary for Congressional Relations | Deputy Director, Intergovernmental Affairs | DA110059 | 4/21/2011
| Office of the Under Secretary for Rural Development | Executive Director, National Food and Agriculture Council | DA110060 | 4/27/2011
Department of Commerce | National Telecommunications and Information Administration | Press Secretary | DC110065 | 4/4/2011
| Office of Executive Secretariat | Deputy Director, Executive Secretariat | DC110066 | 4/8/2011
Department of Defense | Office of the Under Secretary of Defense (Policy) | Special Advisor (Detainee Policy) | DD110055 | 4/15/2011
Department of the Navy | Department of the Navy | Special Assistant | DN110016 | 4/20/2011
Department of Education | Office of Communications and Outreach | Confidential Assistant | DB110044 | 4/4/2011
| Office of Planning, Evaluation and Policy Development | Confidential Assistant | DB110050 | 4/4/2011
| Office of Elementary and Secondary Education | Confidential Assistant | DB110047 | 4/4/2011
| Office of Planning, Evaluation and Policy Development | Special Assistant | DB110041 | 4/4/2011
| Office of the Deputy Secretary | Special Assistant | DB110058 | 4/11/2011
| Office of Vocational and Adult Education | Special Assistant | DB110033 | 4/11/2011
| Office of the General Counsel | Special Assistant | DB110048 | 4/11/2011
| Office of the Secretary | Confidential Assistant | DB110056 | 4/21/2011
| Office of the Secretary | Confidential Assistant | DB110053 | 4/21/2011
| Office of the Secretary | Special Assistant | DB110052 | 4/21/2011
| Office of the Secretary | Special Assistant | DB110051 | 4/21/2011
| Office of the Secretary | Confidential Assistant | DB110055 | 4/21/2011
| Office of the Secretary | Confidential Assistant | DB110059 | 4/22/2011
Department of Energy | Office of Public Affairs | Deputy Press Secretary | DE110070 | 4/20/2011
| Office of Electricity Delivery and Energy Reliability | Special Assistant | DE110072 | 4/21/2011
Environmental Protection Agency | Office of the Associate Administrator for External Affairs and Environmental Education | Assistant Press Secretary | EP110020 | 4/4/2011
| Office of the Associate Administrator for External Affairs and Environmental Education | Director, Office of Public Engagement | EP110021 | 4/21/2011
Federal Communications Commission | Office of Media Relations | Communications Director | FC110005 | 4/26/2011
Government Printing Office | Office of the Public Printer | Executive Assistant | GP110001 | 4/26/2011
Department of Health and Human Services | Office of the Assistant Secretary for Children and Families | Director of Public Affairs | DH110070 | 4/4/2011
| Office of the Secretary | Confidential Assistant | DH110077 | 4/26/2011
Department of Housing and Urban Development | New England (Boston) | Regional Administrator | DU110018 | 4/19/2011
Department of the Interior | Secretary's Immediate Office | Special Assistant for Advance | DI110049 | 4/20/2011
DEPARTMENT OF JUSTICE | Office of the Legal Counsel | Senior Counsel | DJ110065 | 4/20/2011
| Office of Justice Programs | Chief of Staff | DJ110069 | 4/29/2011
Department of Labor | Employment and Training Administration | Chief of Staff | DL110022 | 4/7/2011
| Office of Disability Employment Policy | Chief of Staff | DL110023 | 4/15/2011
| Office of Public Affairs | Speech Writer | DL110025 | 4/21/2011
| Office of the Secretary | Briefing Book | DL110027 | 4/29/2011
National Endowment for the Arts | National Endowment for the Arts | Special Assistant for Congressional Affairs | NA110001 | 4/21/2011
Office of Management and Budget | Legislative Affairs | Legislative Assistant | BO110014 | 4/8/2011
| Office of the Director | Special Assistant | BO110017 | 4/20/2011
Office of Personnel Management | Office of Personnel Management | Press Secretary | PM110007 | 4/26/2011
Small Business Administration | Office of Field Operations | Regional Administrator for Region Iv | SB110027 | 4/7/2011
| Office of the Administrator | Senior Policy Advisor | SB110023 | 4/11/2011
Social Security Administration | Office of the Commissioner | Senior Advisor | SZ110035 | 4/26/2011
Department of State | Office of the Global Women's Initiative | Senior Advisor | DS110047 | 4/19/2011
| Bureau for Education and Cultural Affairs | Staff Assistant | DS110073 | 4/29/2011
Department of Transportation | Assistant Secretary for Budget and Programs | Deputy Assistant Secretary for Management and Budget | DT110026 | 4/21/2011
Department of the Treasury | Secretary of the Treasury | Deputy Executive Secretary | DY110060 | 4/1/2011
Department of Veterans Affairs | Office of the Assistant Secretary for Public and Intergovernmental Affairs | Press Secretary | DV110040 | 4/8/2011

Authority: 5 U.S.C. 3301 and 3302; E.O. 10577, 3 CFR 1954-1958 Comp., p. 218.

U.S. Office of Personnel Management.
John Berry,
Director.

[FR Doc. 2011-16547 Filed 6-30-11; 8:45 am]

BILLING CODE 6325-39-P